DEPARTMENT OF COMMERCE

Patent and Trademark Office

Secrecy and License To Export

ACTION: Proposed collection; comment request.

SUMMARY: The United States Patent and Trademark Office (USPTO), as part of its continuing effort to reduce paperwork and respondent burden, invites the general public and other Federal agencies to take this opportunity to comment on the revision of a continuing information collection, as required by the Paperwork Reduction Act of 1995, Public Law 104-13 (44 U.S.C. 3506(c)(2)(A)).

DATES: Written comments must be submitted on or before March 23, 2010.

ADDRESSES: You may submit comments by any of the following methods:

• E-mail: Susan.Fawcett@uspto.gov. Include “0651-0034 Secrecy and License to Export collection comment” in the subject line of the message.

• Fax: 571-273-0112, marked to the attention of Susan K. Fawcett.

• Mail: Susan K. Fawcett, Records Officer, Office of the Chief Information Officer, U.S. Patent and Trademark Office, P.O. Box 1450, Alexandria, VA 22313-1450.

• Federal e-Rulemaking Portal: http://www.regulations.gov

FOR FURTHER INFORMATION CONTACT: Requests for additional information should be directed to the attention of Brian Hanlon, Director, Office of Patent Legal Administration, U.S. Patent and Trademark Office, P.O. Box 1450, Alexandria, VA 22313-1450; by telephone 571-272-5047; or by e-mail to Brian.Hanlon@uspto.gov.

SUPPLEMENTARY INFORMATION:

I. Abstract

In the interest of national security, patent laws and rules place certain limitations on the disclosure of information contained in patents and patent applications and on the filing of applications for patents in foreign countries. Whenever publication or disclosure by the publication of an application, in the opinion of the head of the interested Government agency, is determined to be detrimental to national security, the Commissioner for Patents at the United States Patent and Trademark Office (USPTO) must issue a secrecy order and withhold the grant of a patent for such period as the national interest requires. If a secrecy order is applied to an international application, the application will not be forwarded to the International Bureau as long as the secrecy order is in effect. The USPTO collects information to determine whether the patent laws and rules have been complied with and to grant or revoke licenses to file abroad when appropriate. This collection of information is required by 35 U.S.C.181-188 and administered through 37 CFR 5.1-5.33.

There are no forms associated with this collection of information.

II. Method of Collection

By mail, facsimile, or hand delivery to the USPTO when the applicant or agent files a patent application with the USPTO, submits subsequent papers during the prosecution of the application to the USPTO, or submits a request for a foreign filing license for a patent application to be filed abroad before the filing of a U.S. patent application.

III. Data

OMB Number: 0651-0034.

Form Number(s): None.

Type of Review: Extension of a currently approved collection.

Affected Public: Individuals, businesses or other for-profits; not-for-profit institutions.

Estimated Number of Respondents: 1,794 responses per year.

Estimated Time Per Response: The USPTO estimates that it will take between 30 minutes (0.5 hours) to 4 hours to gather, prepare and submit this information, depending upon the complexity of the situation.

Estimated Total Annual Respondent Burden Hours: 1,538 hours per year.

Estimated Total Annual Respondent Cost Burden: $499,850. The USPTO expects that the information in this collection will be prepared by attorneys. Using the professional hourly rate of $325 for attorneys in private firms, the USPTO estimates that this collection will have a total respondent cost burden of $499,850 per year.

Item | Estimated time for response | Estimated annual responses | Estimated annual burden hours
Petition for rescission of secrecy order | 3 hours | 6 | 18
Petition to disclose or modification of secrecy order | 2 hours | 3 | 6
Petition for general and group permits | 1 hour | 1 | 1
Petition for expedited handling of license (no corresponding application) | 30 minutes | 1,347 | 674
Petition for expedited handling of license (corresponding U.S. application) | 30 minutes | 259 | 130
Petition for changing the scope of a license | 30 minutes | 1 | 1
Petition for retroactive license | 4 hours | 177 | 708
Totals |  | 1,794 | 1,538

Estimated Total Annual Non-Hour Respondent Cost Burden: $356,879. There are no capital start-up, maintenance, or record keeping costs associated with this information collection. There are, however, filing fees and postage costs.

This collection has a total of $356,800 in associated filing fees, as shown in the accompanying table.

Item | Responses | Filing fee | Total filing fees
Petition for rescission of secrecy order | 6 | $0.00 | $0.00
Petition to disclose or modification of secrecy order | 3 | 0.00 | 0.00
Petition for general and group permits | 1 | 0.00 | 0.00
Petition for expedited handling of license (no corresponding application) | 1,347 | 200.00 | 269,400.00
Petition for expedited handling of license (corresponding U.S. application) | 259 | 200.00 | 51,800.00
Petition for changing the scope of a license | 1 | 200.00 | 200.00
Petition for retroactive license | 177 | 200.00 | 35,400.00
Totals | 1,794 |  | 356,800.00

The USPTO estimates that 90 percent (90%) of the petitions in this collection are submitted to the USPTO by facsimile or hand carried because of the quick turnaround required. For the 10 percent (10%) of the public that chooses to submit the petitions in this collection to the USPTO by mail through the United States Postal Service, the USPTO estimates that the average first class postage cost for a mailed submission will be 44 cents. Therefore, the USPTO estimates that up to 179 submissions per year may be mailed to the USPTO at an average first class postage cost of 44 cents, for a total postage cost of $79.

The USPTO estimates that the total non-hour respondent cost burden for this collection in the form of filing fees ($356,800) and postage costs ($79) amounts to $356,879.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology. Comments submitted in response to this notice will be summarized or included in the request for OMB approval of this information collection; they will also become a matter of public record.

Dated: January 14, 2010.
Susan K. Fawcett,
Records Officer, USPTO, Office of the Chief Information Officer.

[FR Doc. 2010-1161 Filed 1-21-10; 8:45 am]

BILLING CODE 3510-16-P